DEPARTMENT OF THE INTERIOR

Minerals Management Service

Outer Continental Shelf (OCS), Alaska OCS Region, Beaufort Sea, Proposed Liberty Development and Production Plan (DPP)

AGENCY: Minerals Management Service, Interior.

ACTION: Reschedule of dates and times of public hearings for the draft environmental impact statement (EIS) and extension of comment period to April 13, 2001.

SUMMARY: We are changing some of the public hearing dates on the draft EIS for the Liberty DPP and extending the public comment period to accommodate the change of dates.

SUPPLEMENTARY INFORMATION: On January 8, 2001, we announced in the Federal Register (Vol. 66, No 5, Pages 1365-6) the availability of the draft EIS for the Liberty DPP; the locations, dates, and times of the public hearings; and the end of the public comment period.

In response to a letter from the North Slope Borough and comments from the community leaders in Barrow and Nuiqsut, Alaska, some of the hearings have been rescheduled to the following dates, times, and locations:

March 19, 2001, 7-10 p.m., Kisik Community Center, Nuiqsut;

March 20, 2001, 7-10 p.m., Kaktovik Community Center, Kaktovik; and

March 21, 2001, 7-10 p.m., Inupiaq Heritage Center, Barrow.

The dates and times for the scheduled hearings in Anchorage and Fairbanks, Alaska remain unchanged.

If you wish to testify at one of the public hearings, please register by contacting the Alaska OCS Region at the address below or Mr. Fred King at (907) 271-6696 or toll free 1-800-764-2627 no later than 3 days prior to the hearing date. When you register, you may also request a preferred time to testify. Every effort will be made to accommodate individuals who have not pre-registered to testify. Time limitations may require limiting the length of oral statements to 10 minutes. You may supplement an oral statement with a more complete written statement and submit it to the hearing officer at the hearing or by mail until April 13, 2001. Written statements submitted at the hearing will be considered part of the hearing record. If you are unable to attend the hearings, you may submit written statements at the address below.

To accommodate the later dates for the above three public hearings, we have extended the comment period on the draft EIS until April 13, 2001. Please mark your comments “Liberty Draft EIS” and address them to the Regional Director, Minerals Management Service, Alaska OCS Region, 949 East 36th Avenue, Room 308, Anchorage, Alaska 99508-4363.

Dated: February 12, 2001.
Richard Wildermann,
Chief, Environmental Assessment Branch.

[FR Doc. 01-4034 Filed 2-13-01; 3:51 pm]

BILLING CODE 4310-MR-U